FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than August 29, 2008.

A. Federal Reserve Bank of Atlanta (Steve Foley, Vice President) 1000 Peachtree Street, N.E., Atlanta, Georgia 30309:

1. EdBancorp, Inc., and Educational Services of America, Inc., both of Knoxville, Tennessee, to become bank holding companies by acquiring 100 percent of the outstanding shares of Community Bank of the Cumberlands, Jamestown, Tennessee.

In connection with this application, Educational Services of America, Inc., also has applied to acquire 100 percent of the outstanding shares of EdSouth Funding, LLC, Knoxville, Tennessee, and thereby engage in making, acquiring, and brokering loans, or other extensions of credit, pursuant to section 225.28(b)(1) of Regulation Y.

2. First Freedom Bancshares, Inc., to become a bank holding company by acquiring 100 percent of the voting shares of First Freedom Bank, both of Lebanon, Tennessee.

B. Federal Reserve Bank of Chicago (Burl Thornton, Assistant Vice President) 230 South LaSalle Street, Chicago, Illinois 60690-1414:

1. Premier Bancorp of Illinois, Inc., Farmer City, Illinois; to retain 20.8 percent of the voting shares of FM Bancorp, Inc., Paxton, Illinois, and thereby indirectly retain voting shares of Farmers-Merchants National Bank of Paxton, Paxton, Illinois.

In connection with this application, the applicant also has applied to retain a 40 percent ownership in TriCapital, L.L.C., Indianapolis, Indiana, and thereby engage in making, acquiring, brokering loans, or other extensions of credit, pursuant to section 225.28(b)(1) of Regulation Y.

Board of Governors of the Federal Reserve System, July 31, 2008.
Robert deV. Frierson,
Deputy Secretary of the Board.

[FR Doc. E8-18048 Filed 8-5-08; 8:45 am]

BILLING CODE 6210-01-S